COMMITTEE FOR PURCHASE FROM PEOPLE WHO ARE BLIND OR SEVERELY DISABLED

Procurement List Additions and Deletions

AGENCY: Committee for Purchase From People Who are Blind or Severely Disabled.

ACTION: Additions to and Deletions from the Procurement List.

SUMMARY: This action adds a product and services to the Procurement List that will be furnished by nonprofit agencies employing persons who are blind or have other severe disabilities, and deletes products and services from the Procurement List previously furnished by such agencies.

DATES: Effective 10/13/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 7/11/2014 (79 FR 40066-40067; 7/25/2014 (79 FR 43444) and 8/1/2014 (79 FR 44755-44756), the Committee for Purchase From People Who Are Blind or Severely Disabled published notices of proposed additions to the Procurement List.

After consideration of the material presented to it concerning capability of qualified nonprofit agencies to provide the product and services and impact of the additions on the current or most recent contractors, the Committee has determined that the product and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 8501-8506) in connection with the product and services proposed for addition to the Procurement List.

End of Certification

Accordingly, the following product and services are added to the Procurement List:

Product

NSN: 3990-00-NSH-0081—Sideboard Pallet, 48″ x 48″

NPA: Knox County Association for Retarded Citizens, Inc., Vincennes, IN

Contracting Activity: Army Contracting Command—Crane Army Ammunition Activity, Crane, IN

Coverage: C-List for 100% of the requirement of the Crane Army Ammunition Activity, as aggregated by the Army Contracting Command—Crane Army Ammunition Activity, Crane, IN

Services

Service Type/Location: Janitorial Service, U.S. Geological Survey, Illinois Water Science Center, 1201 W. University Avenue, Suite 100, Urbana, IL

NPA: United Cerebral Palsy of the Land of Lincoln, Springfield, IL

Contracting Activity: Dept of the Interior, Geological Survey, Eastern Region Acquisition and Grants Branch, Reston, VA

Service Type/Location: Custodial Service, FAA, Merrill Field Air Traffic Control Tower, 1950 East Fifth Avenue, Anchorage, AK

NPA: M. C. Resource Management, Anchorage, AK

Contracting Activity: Dept of Transportation, Federal Aviation Administration, Renton, WA

Service Type/Location: Snow Removal Service, GSA, PBS, Region 5, Gerald R. Ford Federal Building, 110 Michigan Street, NW, Grand Rapids, MI

NPA: Hope Network Services Corporation, Grand Rapids, MI

Contracting Activity: GSA, Public Buildings Service, Acquisition Management Division, Dearborn, MI

Deletions

On 7/25/2014 (79 FR 43444) and 8/1/2014 (79 FR 44755-44756), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

AQL Inspection

NSN: 5340-00-881-5019

NPA: Provail, Seattle, WA

Contracting Activity: Defense Logistics Agency Troop Support, Philadelphia, PA

Gloves, Surgical, Powder-Free

NSN: 6515-00-NIB-0735—Biogel, Orthopro Indicator, Underglove, Green, Size 6″

NSN: 6515-00-NIB-0736—Biogel, Orthopro Indicator, Underglove, Green, Size 6.5″

NSN: 6515-00-NIB-0737—Biogel, Orthopro Indicator, Underglove, Green, Size 7″

NSN: 6515-00-NIB-0738—Biogel, Orthopro Indicator, Underglove, Green, Size 7.5″

NSN: 6515-00-NIB-0739—Orthopro Indicator, Underglove, Green, Size 8″

NSN: 6515-00-NIB-0740—Biogel, Orthopro Indicator, Underglove, Green, Size 8.5″

NSN: 6515-00-NIB-0741—Biogel, Orthopro Indicator, Underglove, Green, Size 9″

NSN: 6515-00-NIB-0742—Biogel, Orthopro, Overglove, Straw colored, Size 6″

NSN: 6515-00-NIB-0743—Biogel, Orthopro, Overglove, Straw colored, Size 6.5″

NSN: 6515-00-NIB-0744—Biogel, Orthopro, Overglove, Straw colored, Size 7″

NSN: 6515-00-NIB-0745—Biogel, Orthopro, Overglove, Straw colored, Size 7.5″

NSN: 6515-00-NIB-0746—Biogel, Orthopro, Overglove, Straw colored, Size 8″

NSN: 6515-00-NIB-0747—Biogel, Orthopro, Overglove, Straw colored, Size 8.5″

NSN: 6515-00-NIB-0748—Biogel, Orthopro, Overglove, Straw colored, Size 9″

NPA: Bosma Industries for the Blind, Inc., Indianapolis, IN

Contracting Activity: Department of Veterans Affairs, NAC, Hines, IL

Chipboard

NSN: 8135-00-782-3948

NSN: 8135-00-782-3951

NSN: 8135-00-290-0336

NSN: 8135-00-579-8457

NPA: Louisiana Association for the Blind, Shreveport, LA

Contracting Activity: General Services Administration, New York, NY

Services

Service Type/Location: Janitorial/Custodial, U.S. Army Reserve Center, 1001 W. DeYoung Street, Marion, IL

NPA: The H Group, B.B.T. Inc., West Frankfurt, IL

Contracting Activity: Dept of the Army, W6QM MICC-ARCC NORTH, Fort McCoy, WI

Service Type/Locations: Facilities/Grounds Maintenance, Addicks Field Office and Compound Storage Yard, Barker Visitors Areas, Dams, Reservoirs & Related, 2000 Fort Point Road, Houston, TX

Facility and Grounds Maintenance Service, US Army Corps of Engineers, Wallisville Lake, 20020 IH-10 East Feeder Road, Wallisville, TX

Contracting Activity: Dept of the Army, W076 ENDIST GALVESTON, Galveston, TX

Grounds Maintenance Service, US Army Corps of Engineers, Jadwin Building, Fort Point Reservation, 2000 Fort Point Road, Galveston, TX

Contracting Activity: Dept of the Army, W076 ENDIST FT WORTH, Fort Worth, TX

NPA: Training, Rehabilitation, & Development Institute, Inc., San Antonio, TX

Barry S. Lineback,
Director, Business Operations.

[FR Doc. 2014-21758 Filed 9-11-14; 8:45 am]

BILLING CODE 6353-01-P